ENVIRONMENTAL PROTECTION AGENCY

[FRL-6530-1]

Acid Rain Program; Notice of the Filing of Petitions for Administrative Review and Notice of Final Action

AGENCY: Environmental Protection Agency (EPA).

ACTION: Notice of the filing of petitions for administrative review and notice of final action.

SUMMARY: The purpose of this document is to announce the filing, with EPA's Environmental Appeals Board (EAB), of two petitions for review by UtiliCorp United, Inc. (UCU) of two decisions issued by EPA's Office of Air and Radiation, Acid Rain Division, and to announce the final agency action regarding one of these decisions. These decisions and petitions for review concern a request submitted by UCU for approval of a method for apportionment of the nitrogen oxide (NOX) emissions from a common stack at UCU's Sibley, Missouri facility.

DATES: The EAB issued its Order Consolidating Petitions For Review, Denying Request For Interim Relief, And Denying Review Of Petition No. 99-3 on December 29, 1999.

FOR FURTHER INFORMATION CONTACT: Dwight C. Alpern, Attorney-Advisor, Clean Air Markets Division (formerly called “Acid Rain Division”) (6204J), U.S. Environmental Protection Agency, Ariel Rios Building, 1200 Pennsylvania Avenue, NW., Washington, DC 20460 at (202) 564-9151.

SUPPLEMENTARY INFORMATION: On November 16, 1999, UCU filed, with the EAB, a petition for review (CAA Appeal No. 99-2) of a decision by EPA's Office of Air and Radiation, Acid Rain Division, dated October 15, 1999, disapproving UCU's petition for approval of a method for apportionment of (NOX emissions from a common stack at UCU's facility located at Sibley, Missouri. The appeal raises issues regarding the requirement of 40 CFR 75.17(a)(2)(iii). On December 17, 1999, UCU filed, with the EAB, another petition for review (CAA Appeal No. 99-3) of a second decision issued by EPA's Office of Air and Radiation, Acid Rain Division, dated November 19, 1999, denying UCU's November 10, 1999 request for a stay of 40 CFR 75.17(a)(3)(iii) with respect to Unit 3 at UCU's Sibley, Missouri, facility. Both of these appeals were filed under 40 CFR part 78 of the Acid Rain regulations, and both petitions for review requested evidentiary hearings. On December 29, 1999, the EAB issued an order consolidating the two petitions for review, denying UCU's request for interim relief in CAA Appeal No. 99-2, and denying review of CAA Appeal No. 99-3. Motions for leave to intervene in the remaining administrative proceeding regarding CAA Appeal No. 99-2 under 40 CFR 78.11 must be filed by February 11, 2000 with the EAB.

Pursuant to 40 CFR 78.1(a)(2), for purposes of judicial review, final agency action occurs when a decision appealable under part 78 is issued and the procedure for appealing the decision are exhausted. This notice, being published today in the Federal Register, constitutes notice of the final agency action denying UCU's request for interim relief and review of CAA Appeal No. 93-3. If available, judicial review of this decision under section 307(b)(1) of the Clean Air Act (Act) may be brought only by the filing of a petition for review in the United States Court of Appeals for the appropriate circuit within 60 days from the date on which today's notice is published in the Federal Register. Under section 307(b)(2) of the Act, this decision shall not be subject to later judicial review in any civil or criminal proceeding for enforcement.

Dated: January 20, 2000.
Brian J. McLean,
Director, Clean Air Markets Division.

[FR Doc. 00-1961 Filed 1-26-00 8:45 am]

BILLING CODE 6560-50-M